DEPARTMENT OF THE INTERIOR

Bureau of Land Management

[LLNML00000 L19200000.ET0000; NMNM 117830]

Correction to Public Land Order No. 7724; Withdrawal of Public Land for Customs and Border Protection; New Mexico

AGENCY: Bureau of Land Management (BLM), Interior.

ACTION: Correction to Public Land Order.

SUMMARY: This notice contains a correction to the Public Land Order No. 7724 published in the Federal Register [74 FR No. 1, page 118] on Friday, January 2, 2009, under the ADDRESSES.

ADDRESSES: The heading, the U.S. Department of Homeland Security, Customs and Border Protection should read: the U.S. Department of Homeland Security, Customs and Border Protection, 3300 J Street, Lordsburg, New Mexico 88045.

FOR FURTHER INFORMATION CONTACT: Lori Allen, at the Bureau of Land Management, Las Cruces District Office, 1800 Marquess Street, Las Cruces, New Mexico or at (575) 525-4454.

Bill Childress,
District Manager, Las Cruces.

[FR Doc. E9-7700 Filed 4-3-09; 8:45 am]

BILLING CODE 4310-VC-P